DEPARTMENT OF ENERGY

Proposed Agency Information Collection

AGENCY: U.S. Department of Energy.

ACTION: Notice and request for OMB review and comment.

SUMMARY: The Department of Energy (DOE) has submitted to the Office of Management and Budget (OMB) for clearance, a proposal for collection of information under the provisions of the Paperwork Reduction Act of 1995. The proposed collection will gather data about what constitutes an innovative research environment. It will also contribute to building a dataset for the development of a science of science and innovation policy, as part of the National Science Foundation (NSF) program by that name.

DATES: Comments regarding this collection must be received on or before February 20, 2009. If you anticipate that you will be submitting comments, but find it difficult to do so within the period of time allowed by this notice, please advise the Desk Officer of your intention to make a submission as soon as possible. The Desk Officer may be telephoned at 202-395-4650.

ADDRESSES: Written comments should be sent to the:

DOE Desk Officer, Office of Information and Regulatory Affairs, Office of Management and Budget, New Executive Office Building, Room 10102, 735 17th Street, NW., Washington, DC 20503; and to:

Timothy Fitzsimmons, Materials Science and Engineering Division, SC-22.2, Office of Basic Energy Sciences, Office of Science, US Department of Energy, 1000 Independence Ave., SW., Washington DC 20585-1290, Tim.Fitzsimmons@science.doe.gov.

FOR FURTHER INFORMATION CONTACT: Requests for additional information or copies of the information collection instrument and instructions should be directed to:

Timothy Fitzsimmons, Materials Science and Engineering Division, SC-22.2, Office of Basic Energy Sciences, Office of Science, US Department of Energy, 1000 Independence Ave., SW., Washington, DC 20585-1290, Tim.Fitzsimmons@science.doe.gov.

SUPPLEMENTARY INFORMATION: This information collection request contains: (1) OMB No. “New”; (2) Information Collection Request Title: Developing the Science of Science and Innovation Policy: Profiles of Innovativeness and Effective Research Communication. (3) Type of Request: New collection. (4) Purpose: This data collection request will bring to conclusion a long-term research effort funded by the Department of Energy's Office of Basic Energy Sciences to develop the best practices in the management of scientific innovation. This data collection request will also help support an effort under a new National Science Foundation program (SciSIP) which is developing a scientific approach to the formulation of science and innovation policy.

Survey data will be collected on researcher attitudes towards their research environment. Research managers will be asked in addition to describe laboratory policies that promote innovation. Hypotheses from the industrial innovation literature about what constitutes an innovative environment will be tested on 72 research projects in six national laboratories chosen to reflect a diversity of scientific disciplines, specifically chemistry, biology, materials sciences, alternative energy, and geosciences. The selected projects represent four research profiles: Small- and large-scope, and incremental and radical innovation. Polices that encourage diverse work teams and the exchange of information will also be explored. (5) Type of Respondents: Research staff and research managers; (6) Estimated Number of Respondents: 1,800 researchers and 132 project leaders and managers; (7) Estimated Number of Burden Hours: 900 hours for researchers and 132 hours for project leaders and managers at six national laboratories. This is a one time collection of information. Due to calendar considerations this collection will be split between FY 2009 and FY 2010 as opposed to the original goal of completing the survey in FY 2009. (8) Estimated annual reporting and recordkeeping cost burden: zero.

Statutory Authority: Sec. 3506(c)(2)(A) of the Paperwork Reduction Act of 1995 (Pub. L. 104-13).

Issued in Washington, DC on January 12, 2009.
Raymond L. Orbach,
Under Secretary for Science.

[FR Doc. E9-1066 Filed 1-16-09; 8:45 am]

BILLING CODE 6450-01-P